DEPARTMENT OF JUSTICE

Notice of Lodging of Consent Decree Under the Clean Air Act

Under 28 CFR 50.7, notice is hereby given that on May 28, 2004, a proposed Consent Decree in United States v. Equistar Chemicals, LP, Civil Action No. 04-1172 was lodged with the United States District Court for the Western District of Louisiana.

In this action the United States sought injunctive relief and a civil penalty to address violations of the Clean Air Act and the regulations promulgated thereunder. The Equistar Chemicals, LP facility is located in Sulphur, Calcasieu Parish, Louisiana and is currently closed. Under the Consent Decree, Equistar will, when it restarts the facility, conduct performance tests of Flares 008 and 009 to demonstrate compliance with the parameters in 40 CFR 60.18(f)(1) through 60.18(f)(6) and submit a written report containing the test results to the United States Environmental Protection Agency, Region 6 and the State within one hundred and eighty (180) days. Equistar Chemicals, LP will also pay a civil penalty of $100,000 and, as a supplemental environmental project, spend at least $95,000 to replace two older school buses in Calcasieu Parish with two new school buses that will emit less pollution than the older buses.

The Department of Justice will receive for a period of thirty (30) days from the date of this publication comments relating tot he Consent Decree. Comments should be addressed to the Assistant Attorney General, Environment and Natural Resources Division, P.O. Box 7611, U.S. Department of Justice, Washington, DC 20044-7611, and should refer to United States v. Equistar Chemicals, LP, D.J. Ref. No. 90-5-2-1-08012.

The Consent Decree may be examined during the public comment period on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov) fax no. (202) 514-0097, phone confirmation number (202) 514-1547. In requesting a coipy from the Consent Decree Library, please enclose a check in the amount of $7.75 (25 cents per page reproduction cost) payable to the U.S. Treasury.

Thomas A. Mariani, Jr.,
Assistant Section Chief, Environmental Enforcement Section, Environment and Natural Resources Division.

[FR Doc. 04-13042 Filed 6-8-04; 8:45 am]

BILLING CODE 4410-15-M